DEPARTMENT OF COMMERCE

National Oceanic and Atmospheric Administration

Draft Framework for Developing the National System of Marine Protected Areas

AGENCY: National Oceanic and Atmospheric Administration (NOAA), Department of Commerce (DOC).

ACTION: Notice of availability and solicitation of public comments on the Draft Framework for Developing the National System of Marine Protected Areas.

SUMMARY: NOAA and the Department of the Interior (DOI) jointly propose the Draft Framework for Developing the National System of Marine Protected Areas (Draft Framework), as required by Executive Order 13158 on Marine Protected Areas (MPAs). This Draft Framework provides overarching guidance for collaborative efforts among Federal, State, tribal and local governments and stakeholders to develop an effective National System of MPAs (National System) from existing sites, build coordination and collaborative efforts, and identify ecosystem-based gaps in the protection of significant natural and cultural resources for possible future action by the nation's MPA authorities. The document further provides the guiding principles, key definitions, goals, and objectives for the National System, based on the breadth of input received from MPA stakeholders and governmental partners around the nation over the past several years. The intent of this document is to solicit additional public input on the proposed Draft Framework in order to develop a final document that meets the nation's interests in the National System.

DATES: Comments must be received before 11:59 p.m. EDT, February 14, 2007.

ADDRESSES: All comments regarding the Draft Framework should be submitted to Joseph Uravitch, National MPA Center, N/ORM, NOAA, 1305 East-West Highway, Silver Spring, Maryland 20910. Comments sent via e-mail should be sent to mpa.comments@noaa.gov, and all comments sent by fax should be sent to 301-713-3110. E-mail and fax comments should state “Draft Framework Comments” in the subject line.

FOR FURTHER INFORMATION CONTACT: Please direct all questions and requests for additional information concerning the Draft Framework, as well as for paper copies of the document to: Jonathan Kelsey, NOAA, at 301-713-3100, ext. 130 or via e-mail at mpa.comments@noaa.gov. E-mail requests should state either “Question” or “Paper Copy Request” in the subject line. An electronic copy of the Draft Framework is available for download at http://www.mpa.gov/.

SUPPLEMENTARY INFORMATION: The National Oceanic and Atmospheric Administration's (NOAA) National Marine Protected Areas Center (MPA Center), in cooperation with the Department of the Interior (DOI), has developed a Draft Framework for Developing the National System of MPAs (Draft Framework) to meet requirements under Executive Order 13158 on Marine Protected Areas (Order). The purpose of this notice is to solicit additional input and comments on the Draft Framework from governments and stakeholders in order to ensure that the final document represents the diversity of the nation's interests in the marine environment and MPAs. NOAA and DOI recognize the principal role that State and tribal governments, along with Federal agencies, must have in developing and implementing the National System. Roughly 85% of the nation's existing place-based conservation areas are under the jurisdiction of non-Federal governments. The significance of these government-to-government relationships and the marine resources managed by States and tribes necessitates this national, rather than Federal, approach to building the National System. In developing this Draft Framework, NOAA and the DOI have made and will continue to expand efforts to understand and incorporate, as appropriate, the recommendations of government partners concerning a structure and function for the National System that builds partnerships with and supports the efforts and voluntary participation of State, tribal, and local governments. MPA stakeholders and Federal and non-Federal government partners alike are encouraged to review and provide comments on the Draft Framework so that it supports the variety of MPA efforts and interests around the country.

Increasing impacts on the world's oceans, caused by development, overfishing, and natural events, are straining the health of our coastal and marine ecosystems. Some of these impacts to the marine and Great Lakes environment have resulted in declining fish populations; degradation of coral reefs, seagrass beds, and other vital habitats; threats to rare or endangered species; and loss of artifacts and areas that are part of our nation's historic and cultural heritage. The effects of these mounting losses are being directly felt in the social and economic fabric of our nation's communities.

MPAs offer a promising ocean and coastal management tool to mitigate or buffer these impacts. It is important to clarify that the term “MPA,” as used here, is not synonymous with or limited to “no-take areas” or “marine reserves.” Instead, the term “MPA” denotes an array of levels of protection, from areas that allow multiple use activities to those that restrict take and/or access. When used effectively and in conjunction with other management tools, MPAs can help to ensure healthy Great Lakes and oceans by contributing to the overall protection of critical marine habitats and resources. In this way, effective MPAs can offer social and economic opportunities for current and future generations, such as tourism, biotechnology, fishing, education, and scientific research.

Since 2001, the MPA Center and its Federal, State, and tribal partners have been collecting information on the vast array of the nation's place-based marine conservation areas, including those generally considered MPAs, to serve as the foundation for building the National System. This inventory has resulted in the identification of at least 1,500 place-based sites established by hundreds of Federal and State authorities. A number of these existing sites are further managed as systems by their respective agencies or programs. The types of sites found range from multiple-use areas to no-take reserves. The vast majority of these areas allow multiple uses, and less than one percent of the total area under management in the United States (U.S.) is no-take. This inventory has also revealed a dramatic increase in the use of MPAs over the past several decades. Most MPAs in the U.S. have been established since 1970, and most allow recreational and commercial uses. With this expanded use of MPAs have come many new and enhanced protections to natural and cultural resources. A preliminary analysis of U.S. place-based conservation efforts reveals important trends in how these areas, including MPAs, are being used to conserve some of the nation's most significant marine resources. The emerging results illustrate that while there are many such areas currently in U.S. waters, these diverse sites vary widely in mandate, jurisdiction, purpose, size, and level of protection.

Moreover, this initial analysis illustrates how the growing recognition of MPAs as essential conservation tools has resulted in a multitude of new MPA programs and authorities at all levels of government, often times for a sole purpose or objective. There also are a number of good examples where MPA efforts are coordinated locally across programs and levels of government; however, there is no larger framework for collaborating MPA efforts across ecosystems and nationally to meet common goals. This complex environment leads to public confusion, and, in many cases, conservation efforts that are not as effective as they could be with better coordination. The results of this initial analysis have further reinforced the need for a National System and provided much of the baseline information to begin building it.

In recognition of the key role MPAs can play and their growing use, the U.S. is developing an effective National System to support the effective stewardship, lasting protection, restoration, and sustainable use of the nation's significant natural and cultural marine resources. The MPA Center is charged by the Order to carry out these requirements in cooperation with DOI. Neither the Order nor the National System establishes any new legal authorities to designate or manage MPAs, nor do they alter any existing State, Federal, or tribal laws or programs.

In addition, the U.S. Ocean Action Plan (USOAP) outlines a variety of actions for promoting the responsible use and stewardship of ocean and coastal resources for the benefit of all Americans. A Cabinet-level “Committee on Ocean Policy” (COP) was established by Executive Order 13366 (December 17, 2004) to coordinate the activities of executive branch departments and agencies regarding ocean-related matters in an integrated and effective manner to advance the environmental and economic interests of present and future generations of Americans. The President further directs the Executive branch agencies to facilitate, as appropriate, coordination and consultation regarding ocean-related matters among Federal, State, tribal, local governments, the private sector, foreign governments, and international organizations. Subcommittees of the COP also have been formed as part of the ocean governance structure described in the USOAP, including the Subcommittee on Integrated Management of Ocean Resources (SIMOR) and the Joint Subcommittee on Ocean Science and Technology. Many of the activities outlined in the USOAP and the subsequent work plans of the COP's subcommittees complement efforts to develop the National System. Similarly, many of the collaborative actions under the National System may offer opportunities to help advance the USOAP. As these efforts proceed, the MPA Center will work closely with SIMOR to evaluate progress and plans for developing the National System in order to ensure coordination and consistency with the USOAP's governance structure and overall approach.

The MPA Center has developed this Draft Framework based on information from the initial analysis of information about existing place-based conservation efforts, along with comments from hundreds of individuals at nearly sixty meetings, initial tribal consultations, and recommendations from Federal, non-governmental and State advisory groups. As a result, the proposed collaborative development of an effective National System outlined in this document provides a structure for an assemblage of MPA sites, systems, and networks established and managed by Federal, State, tribal, and local governments to collectively work together at the regional and national levels to achieve common objectives for conserving the nation's vital natural and cultural resources.

By establishing an effective structure for working together, the National System will help to increase the efficient protection of important marine resources; contribute to the nation's overall social and economic health; support government agency cooperation and integration; and improve the public's access to scientific information and decision-making about the nation's marine resources. The efforts of the National System are also intended to benefit participating State, tribal, Federal, and local government partners through collaborative efforts to identify shared priorities for improving MPA effectiveness and develop partnerships to provide assistance in meeting those needs. Further, it provides a foundation for cooperation with other countries to conserve resources of common concern.

In submitting your comments on the Draft Framework, please remember that comments submitted by e-mail are preferred; however, those submitted by mail and fax will also be accepted. An extended comment period of 145 days is being provided in order to accommodate the quarterly meeting schedules of some organizations, including regional fishery management councils.

Classification

Regulatory Planning and Review

This action is not a regulatory action subject to E.O. 12866 (58 FR 51735, October 4, 1993).

Energy Effects

NOAA and DOI have determined that this action will have no effect on energy supply, distribution, or use and is therefore not a “significant energy action” as defined by Executive Order 13211 (66 FR 28355, May 18, 2001). No Statement of Energy Effects is required and therefore none has been prepared.

Government to Government Relationship With Tribes

E.O. 13175—Consultation and Coordination with Indian Tribal Governments— outlines the responsibilities of the Federal Government regarding its policies with tribal implications, i.e., regulations, legislative comments or proposed legislation, and other policy statements or actions that have substantial direct effects on one or more Indian tribes, on the relationship between the Federal Government and Indian tribes, or on the distribution of power and responsibilities between the Federal Government and Indian tribes (65 FR 67249, November 9, 2000). Pursuant to E.O. 13175, we will consult with tribal governments as the National System is developed.

Administrative Procedure Act

Pursuant to authority at 5 U.S.C. 533(b)(A), prior notice and an opportunity for public comment are not required to be given, as this document concerns agency procedure or practice. Nevertheless, NOAA and DOI want the benefit of the public's comment and are hereby giving prior notice and opportunity for public comment.

Dated: July 12, 2006.
Conrad C. Lautenbacher, Jr.,
Vice Admiral, U.S. Navy (Ret.), Under Secretary of Commerce for Oceans and Atmosphere.

[FR Doc. 06-8077 Filed 9-21-06; 8:45 am]

BILLING CODE 3510-08-P